Title 3—

The President

Proclamation 10868 of December 3, 2024

International Day of Persons With Disabilities, 2024

By the President of the United States of America

A Proclamation

The over one billion disabled people around the world have made incredible contributions—propelling us all forward in the pursuit of progress. This International Day of Persons with Disabilities, we recommit to ensuring that people with disabilities are treated with dignity and respect and have every opportunity to reach their full potential.

I remain proud that one of my earliest acts as a United States Senator was co-sponsoring the Rehabilitation Act, banning discrimination on the basis of disability by any entity funded by the Federal Government. And later, I co-sponsored the Americans with Disabilities Act, which banned discrimination against disabled people in workplaces, schools, public transit, and more—finally making a commitment to build an America for all Americans. Together, these laws declared what we have always known to be true: that Americans with disabilities deserve dignity, respect, and an equal chance at the American Dream.

Over 180 nations have passed similar laws in the years since, codifying their commitment to equal justice and opportunities for people with disabilities. Still, these laws have not brought an end to the work we need to do. Around the world, people with disabilities are subject to shameful discrimination, harassment, exploitation, abuse, and violence. And too often, they struggle to get by—whether it is finding an accommodating job, enjoying public spaces, receiving quality education, or getting to and from school or work.

That is why my Administration has worked to uplift people with disabilities in everything we do. My American Rescue Plan provided $37 billion to strengthen home-based services so that more people with disabilities have the option to live independently at home. My Bipartisan Infrastructure Law makes historic investments in making transit, rail, and airports more accessible, so that people with disabilities can commute and travel with dignity. The Department of Justice issued a rule that ensures State and local governments make their web content and mobile apps more accessible to Americans with disabilities so they can more easily access local government services, emergency services, voting information, and publicly funded education. And today, the Department of Labor announced a proposed rule that would gradually phase out certificates that permit employers to pay workers with disabilities less than the full minimum wage.

My Administration has also worked with partners around the world to secure the rights of people with disabilities. I released the first-ever Memorandum on Advancing Worker Empowerment, Rights, and High Labor Standards Globally, which is working to ensure that people with disabilities are represented in our work to promote labor rights. And I re-established the role of Special Advisor on International Disability Rights at the Department of State to ensure our foreign policy reflects our commitment to this community. In October, my Administration participated in the first-ever G7 Ministerial on Inclusion and Disability, joining leaders around the world to advance disability rights. Together with leaders from Central Asia, I launched a joint disability rights initiative to help make education and infrastructure more accessible. And as a co-chair of the Global Action on Disability Network, the United States is continuing to advocate for disability rights on the world stage.

Today, I am thinking of a quote from disability rights activist Judy Heumann, who once wrote: “Change never happens at the pace we think it should. It happens over years of people joining together, strategizing, sharing, and pulling all the levers they possibly can.” On International Day of Persons with Disabilities, we show our gratitude for all the leaders and activists who have advocated and worked to make real our Nation's founding promise—that every American has a right to be recognized and respected for who they are. And we recommit to building a world where we support disability pride and give everyone an equitable chance at achieving their highest aspirations.

NOW, THEREFORE, I, JOSEPH R. BIDEN JR., President of the United States of America, by virtue of the authority vested in me by the Constitution and the laws of the United States, do hereby proclaim December 3, 2024, as International Day of Persons with Disabilities. I call on all Americans to observe this day with appropriate ceremonies, activities, and programs.

IN WITNESS WHEREOF, I have hereunto set my hand this third day of December, in the year of our Lord two thousand twenty-four, and of the Independence of the United States of America the two hundred and forty-ninth.

[FR Doc. 2024-28852

Filed 12-5-24; 8:45 am]

Billing code 3395-F4-P